INTERNATIONAL TRADE COMMISSION

[Investigation No. 337-TA-600]

In the Matter of Certain Rechargeable Lithium-Ion Batteries, Components Thereof, and Products Containing Same; Notice of Commission Decision Not To Review an Initial Determination Terminating the Investigation as to Respondent Sanyo Electric Co., LTD. Based on a Settlement Agreement

AGENCY: U.S. International Trade Commission.

ACTION: Notice.

SUMMARY: Notice is hereby given that the U.S. International Trade Commission has determined not to review an initial determination (“ID”) of the presiding administrative law judge (“ALJ”) (Order No. 18) in the above-captioned investigation terminating this investigation, as to respondent Sanyo Electric Co., Ltd. (“Sanyo”).

FOR FURTHER INFORMATION CONTACT: Paul M. Bartkowski, Esq., Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on April 27, 2007, based on a complaint filed by 3M Company and 3M Innovative Properties Company of St. Paul, Minnesota (collectively “3M”). 72 FR 21,050 (April 27, 2006). The complaint, as amended and supplemented, alleges violations of section 337 in the importation into the United States, the sale for importation, and the sale within the United States after importation of certain rechargeable lithium-ion batteries, components thereof, and products containing the same by reason of infringement of one or more of claims 1, 2, 13, and 15-19 of U.S. Patent No. 6,964,828 (“the ‘828 patent”) and claims 10, 15, 16, and 22 of U.S. Patent No. 7,078,128 (“the ‘128 patent”). The amended complaint also alleges that a domestic industry exists with regard to the ‘828 and ‘128 patents under 19 U.S.C. § 1337 subsections (a)(2) and (a)(3). The amended complaint names Sony Corporation and Sony Electronics, Inc. (collectively, “Sony”); Lenovo Group Ltd. (Hong Kong) and Lenovo Group Inc. (USA) (collectively, “Lenovo”); CDW Corporation; Batteries Com, LLC; Hitachi Koki USA, Ltd.; Matsushita Industrial Electric Co., Ltd.; Panasonic Corporation of North America; Total Micro Technologies Inc. (“Total Micro”); and Sanyo Electric Co., Ltd. as the proposed respondents. Subsequently, the target date of November 28, 2008 (19 months) was set and, later, respondents Matsushita Industrial Electric Co., Ltd., Panasonic Corporation of North America, Batteries Com, Lenovo, Total Micro, and Sony were terminated from the investigation on the basis of settlement agreements. None of those determinations were reviewed by the Commission.

On November 9, 2007, the ALJ issued the subject ID terminating this investigation as to Sanyo pursuant to Commission rule 210.21 based on a settlement agreement between Sanyo and 3M. No petitions for review of the ID were filed. The Commission has determined not to review the ID.

The authority for the Commission's determination is contained in section 337 of the Tariff Act of 1930, as amended (19 U.S.C. 1337), and in section 210.21, 210.42 of the Commission's Rules of Practice and Procedure (19 CFR 210.21, 210.42).

By order of the Commission.
Issued: December 3, 2007.
Marilyn R. Abbott,
Secretary to the Commission.

[FR Doc. E7-23762 Filed 12-6-07; 8:45 am]

BILLING CODE 7020-02-P